CONSUMER PRODUCT SAFETY COMMISSION

Sunshine Act Meeting

TIME AND DATE: Friday, March 22, 2024-2 p.m.

PLACE: Meeting will be held remotely.

STATUS: Closed to the Public.

MATTERS TO BE CONSIDERED: Briefing Matter: Closed meeting topic.

CONTACT PERSON FOR MORE INFORMATION: Alberta E. Mills, Office of the Secretary, U.S. Consumer Product Safety Commission, 4330 East West Highway, Bethesda, MD 20814, 301-504-7479 (Office) or 240-863-8938 (Cell).

Dated: March 20, 2024.
Alberta E. Mills,
Commission Secretary.

[FR Doc. 2024-06353 Filed 3-21-24; 11:15 am]

BILLING CODE 6355-01-P